DEPARTMENT OF COMMERCE

Bureau of Industry and Security

[Docket No. 030715174-3174-01]

Revisions to the Unverified List—Guidance as to “Red Flags”

Correction

In notice document 03-19017 beginning on page 44039 in the issue of Friday, July 25, 2003 make the following correction:

On page 44039, in the third column, in the third full paragraph, in the first line “has not conducted” should read “has now conducted”.

[FR Doc. C3-19017 Filed 8-8-03; 8:45 am]

BILLING CODE 1505-01-D

DEPARTMENT OF HEALTH AND HUMAN SERVICES

Centers for Medicare & Medicaid Services

42 CFR Part 412

[CMS-1470-F]

RIN 0938-AL89

Medicare Program; Changes to the Hospital Inpatient Prospective Payment Systems and Fiscal Year 2004 Rates

Correction

In rule document 03-19363 beginning on page 45346 in the issue of Friday August 1, 2003, make the following correction:

§412.87 [Corrected]

On page 45469, in the third column, in §412.87, under the section heading, paragraph “(a)” should read “(b)”.

[FR Doc. C3-19363 Filed 8-8-03; 8:45 am]

BILLING CODE 1505-01-D

DEPARTMENT OF TRANSPORTATION

Federal Aviation Administration

14 CFR Part 71

[Docket No. FAA-2003-15454; Airspace Docket No. 03-ACE-52]

Modification of Class E Airspace; Wichita Mid-Continent Airport, KS

Correction

In rule document 03-17766 beginning on page 41691 in the issue of Tuesday, July 15, 2003, make the following corrections:

1. On page 41691, in the third column, under the SUPPLEMENTARY INFORMATION section, in the 22nd line, after “KS” insert “revealed several discrepancies in the Wichita Mid-Continent Airport, KS”.

2. On the same page, in the same column, under the same section, in the 35th line, “24 CFR” should read “14 CFR ”.

§71.1 [Corrected]

3. On page 41692, in the second column, in § 71.1, under the heading “ACE KS E5 Wichita Mid-Continent Airport, KS”, in the sixth line should read, “(Lat. 37°37′33″ N.,” should read “(Lat. 37°37′23″ N.,”.

4. On the same page, in the same column, in the same section, under the same heading, in the eighth line from the bottom, “west east” should read “west and 5 miles east”.

5. On the same page, in the third column, in the same section, in the first paragraph, in the sixth line, “lone ” should read “line”.

6. On the same page, in the same column, in the same section, in the same paragraph, in the seventh line, “AUGRA” should read “AUBRA”.

[FR Doc. C3-17766 Filed 8-8-03; 8:45 am]

BILLING CODE 1505-01-D